NATIONAL TRANSPORTATION SAFETY BOARD

49 CFR Part 830

[Docket No. NTSB-AS-2015-0001]

Interpretation of Notification Requirements To Exclude Model Aircraft; Correction

AGENCY: National Transportation Safety Board (NTSB).

ACTION: Notice of interpretation; correction.

SUMMARY: The NTSB published a notice of legal interpretation in the Federal Register on September 11, 2015 (80 FR 54736), titled: “Interpretation of Notification Requirements to Exclude Model Aircraft.” The document contained an inadvertent typographical error. This document corrects the error.

DATES: This correction is effective October 13, 2015.

FOR FURTHER INFORMATION CONTACT: David Tochen, NTSB General Counsel, at (202) 314-6080.

SUPPLEMENTARY INFORMATION:

Correction

The Notice of Legal Interpretation that was the subject of FR Doc. 2015-22933, published on September 11, 2015 (80 FR 54736), is corrected as follows: On page 54736, in the second column, first paragraph, line 17, is amended by changing the word “incidence” to “incidents.”

David K. Tochen,
General Counsel.

[FR Doc. 2015-26015 Filed 10-9-15; 8:45 am]

BILLING CODE 7533-01-P